SECURITIES AND EXCHANGE COMMISSION

[Release No. 34-45102; File No. SR-NASD-2001-59]

Self-Regulatory Organizations; Order Granting Approval of Proposed Rule Change by the National Association of Securities Dealers, Inc. Relating to Fees for Historical Research Reports and Licensing the Redistribution of Information From Such Reports

November 26, 2001.

On September 25, 2001, the National Association of Securities Dealers, Inc. (“NASD” or “Association”), through its subsidiary, The Nasdaq Stock Market, Inc. (“Nasdaq”), filed with the Securities and Exchange Commission (“Commission”), pursuant to section 19(b)(1) of the Securities Exchange Act of 1934 (“Act”) ¹ and rule 19b-4 thereunder,² a proposed rule change to amend subsection (p) of NASD Rule 7010, System Services, to modify the fees charged for historical research reports provided through Nasdaq's Nasdaq Trader.com web site, and to establish a fee for licensing the redistribution of information contained in such reports.

¹ 15 U.S.C. 78s(b)(1).

² 17 CFR 240.19b-4.

The proposal was published in the Federal Register on October 22, 2001.³ The Commission received no comments on the proposal.

³ See Securities Exchange Act Release No. 44940 (October 16, 2001), 66 FR 53462.

The Commission finds that the proposed rule change is consistent with the requirements of the Act and the rules and regulations thereunder applicable to a national securities association ⁴ and, in particular, the requirements of section 15A of the Act ⁵ and the rules and regulations thereunder. The Commission finds specifically that the proposed rule change is consistent with sections 15A(b)(5) and (6) of the Act.⁶ Section 15A(b)(5) requires the equitable allocation of reasonable fees and charges among members and other users of facilities operated or controlled by a national securities association. Section 15A(b)(6) requires rules that foster cooperation and coordination with persons engaged in regulating, clearing, settling, processing information with respect to, and facilitating transactions in securities, and that are not designed to permit unfair discrimination between customers, issuers, brokers or dealers.

⁴ In approving this proposed rule change, the Commission has considered the proposed rule's impact on efficiency, competition, and capital formation. 15 U.S.C. 78c(f).

⁵ 15 U.S.C. 78o-3.

⁶ 15 U.S.C. 78o-3(b)(5) and (6).

It Is Therefore Ordered, pursuant to section 19(b)(2) of the Act,⁷ that the proposed rule change (SR-NASD-2001-59), be, and it hereby is, approved.

⁷ 15 U.S.C. 78s(b)(2).

For the Commission, by the Division of Market Regulation, pursuant to delegated authority.⁸
⁸ 17 CFR 200.30-3(a)(12).
Margaret H. McFarland,
Deputy Secretary.

[FR Doc. 01-29719 Filed 11-29-01; 8:45 am]

BILLING CODE 8010-01-M